DEPARTMENT OF STATE

[Public Notice 8052]

Convening of an Accountability Review Board To Examine the Circumstances Surrounding the Deaths of Personnel Assigned in Support of the U.S. Government Mission to Libya in Benghazi, Libya on September 11, 2012

SUMMARY: Pursuant to Section 301 of the Omnibus Diplomatic Security and Antiterrorism Act of 1986, as amended (22 U.S.C. 4831 et seq.), Secretary of State Hillary Rodham Clinton has determined that the recent deaths of Ambassador J. Christopher Stevens, Information Management Officer Sean Smith, and security personnel Glen Doherty and Tyrone Woods in Benghazi, Libya involved loss of life at or related to a U.S. mission abroad. Therefore, Secretary Clinton has convened an Accountability Review Board, as required by that statute, to examine the facts and circumstances of the attacks and to report findings and recommendations as it deems appropriate, in keeping with its mandate. The Secretary has appointed Thomas Pickering, a retired U.S. ambassador, as Chair of the Board. He will be assisted by Admiral Michael G. Mullen, Ms. Catherine Bertini, Mr. Richard J. Shinnick, and Mr. Hugh J. Turner III. They bring to their deliberations distinguished backgrounds in government service. If you are contacted for an interview by the Board, please give them your full and prompt cooperation.

The Board will submit its conclusions and recommendations to Secretary Clinton within 60 days of its first meeting, unless the Chair determines a need for additional time. Within the timeframe required by statute following receipt of the report, the Department will report to Congress on all recommendations made by the Board and any actions undertaken in response to those recommendations.

Anyone with information relevant to the Board's examination of these incidents should contact the Board promptly at (202) 647-6246 or send a fax to the Board at (202) 647-6640.

Dated: October 1, 2012.
Patrick F. Kennedy,
Under Secretary of State for Management, Department of State.

[FR Doc. 2012-24504 Filed 10-3-12; 8:45 am]

BILLING CODE 4710-35-P